DEPARTMENT OF TRANSPORTATION

Federal Aviation Administration

14 CFR Part 39

[Docket No. FAA-2009-0119; Directorate Identifier 2008-CE-068-AD]

RIN 2120-AA64

Airworthiness Directives; M7 Aerospace LP Models SA226-AT, SA226-T, SA226-TC, SA227-AC (C-26A), SA227-AT, SA227-BC (C-26A), SA227-CC, and SA227-DC (C-26B) Airplanes

AGENCY: Federal Aviation Administration (FAA), Department of Transportation (DOT).

ACTION: Notice of proposed rulemaking (NPRM).

SUMMARY: We propose to supersede Airworthiness Directive (AD) 2008-12-16, which applies to certain M7 Aerospace LP SA226 and SA227 series airplanes. AD 2008-12-16 currently requires you to inspect wires and tube assemblies for chafing, arcing, or insufficient clearance between components. If chafing, arcing, or insufficient clearance between components is found, AD 2008-12-16 requires you to clear, repair, and/or replace all chafed wires, components, and tube assemblies. AD 2008-12-16 also requires you to cover the four-gauge wires leaving the battery box with firesleeving and secure them with a clamp. Since we issued AD 2008-12-16, M7 Aerospace LP has notified us that Model SA227-BC (C-26A) was inadvertently left out of the Applicability section of the AD and they updated some of the service information due to parts availability. Operators have also identified issues with model applicability that needed clarification. Consequently, this proposed AD would retain the actions of AD 2008-12-16, add Model SA227-BC (C-26A) to the Applicability section, and regroup the models for clarification. We are proposing this AD to detect and correct chafing of electrical wires, components, and tube assemblies. This condition could result in arcing of exposed wires with consequent burning of a hole in a hydraulic line or the bleed air line. This failure could lead to a hydraulic fluid leak and a possible fire in the engine nacelle compartment.

DATES: We must receive comments on this proposed AD by April 13, 2009.

ADDRESSES: Use one of the following addresses to comment on this proposed AD:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this proposed AD, contact M7 Aerospace Repair Station, 10823 NE Entrance Road, San Antonio, Texas 78216; telephone: (210) 824-9421; fax: (210) 804-7766; Internet: http://www.m7aerospace.com.

FOR FURTHER INFORMATION CONTACT: Werner Koch, Aerospace Engineer, ASW-150, Fort Worth Airplane Certification Office, 2601 Meacham Blvd., Fort Worth, Texas 76137; telephone: (817) 222-5133; fax: (817) 222-5960.

SUPPLEMENTARY INFORMATION:

Comments Invited

We invite you to send any written relevant data, views, or arguments regarding this proposed AD. Send your comments to an address listed under the ADDRESSES section. Include the docket number, “FAA-2009-0119; Directorate Identifier 2008-CE-068-AD” at the beginning of your comments. We specifically invite comments on the overall regulatory, economic, environmental, and energy aspects of the proposed AD. We will consider all comments received by the closing date and may amend the proposed AD in light of those comments.

We will post all comments we receive, without change, to http://www.regulations.gov, including any personal information you provide. We will also post a report summarizing each substantive verbal contact we receive concerning this proposed AD.

Discussion

Five reports of chafing between the bleed air tube assembly and the electrical starter cables on M7 Aerospace LP SA226 and SA227 series airplanes, with one incident resulting in a fire, caused us to issue AD 2008-12-16, Amendment 39-15560 (73 FR 34615, June 18, 2008). AD 2008-12-16 currently requires the following on M7 Aerospace LP SA226 and SA227 series airplanes:

• Inspect electrical wires and components, hydraulic tube assemblies, and bleed air tube assemblies, for sufficient clearance between components or any evidence of chafing or arcing;

• Clear, repair, and/or replace all chafed electrical wires and components, chafed hydraulic tube assemblies, and chafed bleed air tube assemblies; and

• Cover the four-gauge wires leaving the battery box with firesleeving and secure them with a clamp.

Since we issued AD 2008-12-16, M7 Aerospace LP has notified us that Model SA227-BC (C-26A) was inadvertently left out of the Applicability section of the AD and they updated some of the service information due to parts availability. Operators have also identified issues with the model applicability that needed clarification. Consequently, this proposed AD would retain the actions of AD 2008-12-16, add the Model SA227-BC (C-26A) to the Applicability section, and regroup the models for clarification. We are proposing this AD to detect and correct chafing of electrical wires, components, and tube assemblies.

This condition could result in arcing of the exposed wires with consequent burning of a hole in a hydraulic line or the bleed air line. This failure could lead to a hydraulic fluid leak and a possible fire in the engine nacelle compartment.

Relevant Service Information

We have reviewed the following service bulletins and procedures:

Service bulletin | Applicable models | Procedures described
Fairchild Aircraft Corporation SA226 Series Service Bulletin 226-24-019, revised: November 21, 2008. | SA226-AT, SA226-T, and SA226-TC | Inspecting the battery cables and covering the four-gauge wires leaving the battery box with firesleeving and securing them with a clamp.
Fairchild Aircraft Corporation SA227 Series Service Bulletin No. SB227-24-001, revised: November 21, 2008. | SA227-AC, SA227-AT, and SA227-BC (C-26A)
M7 Aerospace SA226 Series Service Bulletin No. 226-24-020, revised: August 4, 2008. | SA226-AT and SA226-TC | Rerouting the hydraulic tube assemblies in the right wing leading edge, rerouting the battery cables and 22-gauge wire bundle, and installing a new access panel forward of the battery box.
M7 Aerospace SA227 Series Service Bulletin No. 227-24-002, revised: November 21, 2008. | SA227-AC and SA227-AT
M7 Aerospace SA226 Series Service Bulletin No. 226-24-036, revised: November 21, 2008. | SA226AT, SA226-T, and SA226TC | Inspecting electrical wires and components, hydraulic tube assemblies, and bleed air tube assemblies at the inboard wing leading edge/battery box areas, wing stations 51.167 to 81.174, and the feed-through locations into the inboard keelson.
M7 Aerospace SA227 Series Service Bulletin No. 227-24-019, revised: November 21, 2008. | SA227-AC (C-26A), SA227-BC (C-26A), and SA227-AT
M7 Aerospace SA227 Series Commuter Category Service Bulletin No. CC7-24-010, revised: November 21, 2008. | SA227-CC and SA227-DC (C-26B)

FAA's Determination and Requirements of the Proposed AD

We are proposing this AD because we evaluated all information and determined the unsafe condition described previously is likely to exist or develop on other products of the same type design. This proposed AD would supersede AD 2008-12-16 with a new AD that would retain the actions of AD 2008-12-16, add Model SA227-BC (C26A) to the Applicability section, and regroup the models for clarification. We are proposing this AD to detect and correct chafing of electrical wires, components, and tube assemblies. This proposed AD would require you to use the service information described previously to perform these actions.

Costs of Compliance

We estimate that this proposed AD would affect 268 airplanes in the U.S. registry.

We estimate the following costs to do the proposed inspection:

Labor cost | Parts cost | Total cost per airplane | Total cost on U.S. operators
4 work-hours × $80 per hour = $320 | Not Applicable | $320 | $85,760

We estimate the following costs to do any necessary modifications for certain Models SA226-AT, SA226-T, SA226-TC, SA227-AC, and SA227-AT airplanes referenced in M7 Aerospace SA226 Series Service Bulletin 226-24-019, revised: November 21, 2008; or M7 Aerospace SA227 Series Service Bulletin 227-24-001, revised: November 21, 2008. We estimate 88 airplanes may need this modification:

Labor cost | Parts cost | Total cost per airplane | Total cost on U.S. operators
13 work-hours × $80 per hour = $1,040 | $7 | $1,047 | $92,136

We estimate the following costs to do any necessary repairs for certain Models SA226-AT, SA226-TC, SA227-AC, and SA227-AT referenced in M7 Aerospace SA226 Series Service Bulletin 226-24-020, revised: August 4, 2008; or M7 Aerospace SA227 Series Service Bulletin 227-24-002, revised: November 21, 2008. We have no way of determining the number of airplanes that may need this repair:

Labor cost | Parts cost | Total cost per airplane
50 work-hours × $80 per hour = $4,000 | $3,000 | $7,000

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

Examining the AD Docket

You may examine the AD docket that contains the proposed AD, the regulatory evaluation, any comments received, and other information on the Internet at http://www.regulations.gov; or in person at the Docket Management Facility between 9 a.m. and 5 p.m., Monday through Friday, except Federal holidays. The Docket Office (telephone (800) 647-5527) is located at the street address stated in the ADDRESSES section. Comments will be available in the AD docket shortly after receipt.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2008-12-16, Amendment 39-15560 (73 FR 34615, June 18, 2008), and adding the following new AD:

M7 Aerospace LP: Docket No. FAA-2009-0119; Directorate Identifier 2008-CE-068-AD.

Comments Due Date

(a) We must receive comments on this airworthiness directive (AD) action by April 13, 2009.

Affected ADs

(b) This AD supersedes AD 2008-12-16, Amendment 39-15560.

Applicability

(c) This AD applies to Models SA226-AT, SA226-T, SA226-TC, SA227-AC (C-26A), SA227-AT, SA227-BC (C-26A), SA227-CC, and SA227-DC (C-26B) airplanes, all serial numbers, that are certificated in any category.

Unsafe Condition

(d) This AD results from five reports of chafing between the bleed air tube assembly and the electrical starter cables on M7 Aerospace LP SA226 and SA227 series airplanes with one incident resulting in a fire. We are proposing this AD to detect and correct chafing of electrical wires and components, hydraulic tube assemblies, and bleed air tube assemblies. This condition could result in arcing of the exposed wires with consequent burning of a hole in a hydraulic line or the bleed air line. This failure could lead to a possible hydraulic fluid leak and fire in the engine nacelle compartment.

Compliance

(e) To address this problem, you must do the following, unless already done:

Actions | Compliance | Procedures
(1) For airplanes with the following Model Numbers (M/N) and Serial Numbers (S/N), inspect the main battery leads running forward from the battery compartment for deterioration, cover the four-gauge wires leaving the battery box with firesleeving, and secure them with a clamp: (i) M/N SA226-AT, S/N AT-001 through AT-419; (ii) M/N SA226-T, S/N T-201 through T-248; (iii) M/N SA226-TC, S/N TC-201 through TC-419; (iv) M/N SA227-AC (C-26A), S/N AC-420 through AC-539, AC-541, AC-543, AC-544, AC-547 through AC-551; and (v) M/N SA227-AT, S/N AT-423 through AT-551. | Within 250 hours time-in-service (TIS) after July 23, 2008 (the effective date of AD 2008-12-16) | Use the following service information as applicable: (A) For Models SA226-AT, SA226-T, and SA226-TC airplanes: Follow M7 Aerospace SA226 Series Service Bulletin No. 226-24-019, revised: November 21, 2008; or Fairchild Aircraft Corporation SA226 Series Service Bulletin No. SB 24-019, revised: May 17, 1983; or (B) For Models SA227-AC (C-26A) and SA227-AT airplanes: Follow M7 Aerospace SA227 Series Service Bulletin No. 227-24-001, revised: November 21, 2008; or Fairchild Aircraft Corporation SA227 Series Service Bulletin No. SB24-001, revised: May 17, 1983.
(2) For airplanes with the following M/Ns and S/Ns, reroute the hydraulic tube assemblies in the right wing leading edge, reroute the battery cables and 22-gauge wire bundle, and install a new access panel forward of the battery box: (i) M/N SA226-AT, S/N AT-001 through AT-074; (ii) M/N SA226-TC, S/N TC-201 through TC-419; (iii) M/N SA227-AC (C-26A), S/N AC-420 through AC-539, AC-541, AC-543, AC-544, AC-547 through AC-550; and (iv) M/N SA227-AT, S/N AT-423 through AT-551. | Before further flight after the modification required in paragraph (e)(1) of this AD and you were not able to obtain a minimum 0.50-inch clearance between the bleed air line and the tubing on the battery cables | Use the following service information as applicable: (A) For Models SA226-AT, and SA226-TC airplanes: Follow M7 Aerospace SA226 Series Service Bulletin No. 226-24-020, revised: August 4, 2008; or Fairchild Aircraft Corporation SA226 Series Service Bulletin No. SB 24-020, revised: February 15, 1984; or (B) For Models SA227-AC (C-26A) and SA227-AT, airplanes: Follow M7 Aerospace SA227 Series Service Bulletin No. 227-24-002, revised: November 21, 2008; or Fairchild Aircraft Corporation SA227 Series Service Bulletin No. SB24-002, revised: February 15, 1984.
(3) For airplane Models SA226-AT, SA226-T, SA226-TC, SA227-AC (C-26A), SA227-AT, SA227-CC, and SA227-DC (C-26B): Inspect electrical wires and components, hydraulic tube assemblies, and bleed air tube assemblies at the left hand and right hand (LH/RH) inboard wing leading edge/battery box areas, LH/RH wing stations 51.167 to 81.174, and at all feed-through locations into the LH/RH inboard keelson for any evidence of chafing or arcing. | Within 250 hours TIS after July 23, 2008 (the effective date of AD 2008-12-16). Repetitively thereafter inspect at intervals not to exceed 12 months | Use the following service information as applicable: (i) For Models SA226-AT, SA226-T, and SA226-TC airplanes: Follow M7 Aerospace SA226 Series Service Bulletin No. 226-24-036, revised November 21, 2008; or M7 Aerospace SA226 Series Service Bulletin No. 226-24-036, issued: September 19, 2007; (ii) For Models SA227-AC (C-26A) and SA227-AT, airplanes: Follow M7 Aerospace SA227 Series Service Bulletin No. 227-24-019, revised: November 21, 2008; or M7 Aerospace SA227 Series Service Bulletin No. 227-24-019, issued: September 19, 2007; or (iii) For Models SA227-CC and SA227-DC (C-26B) airplanes: Follow SA227 Series Commuter Category Service Bulletin No. CC7-24-010, revised November 21, 2008; or SA227 Series Commuter Category Service Bulletin No. CC7-24-010, issued September 19, 2007.
(4) For airplane Model SA227-BC (C-26A): Inspect the main battery leads running forward from the battery compartment for any evidence of insulation deterioration. | Within 250 hours TIS after the effective date of this AD | Follow M7 Aerospace SA227 Series Service Bulletin No. 227-24-001, revised: November 21, 2008.
(5) For airplane Model SA227-BC (C-26A): Inspect electrical wires and components, hydraulic tube assemblies, and bleed air tube assemblies at LH/RH inboard wing leading edge/battery box areas, LH/RH wing stations 51.167 to 81.174, and at all feed-through locations into the LH/RH inboard keelson for any evidence of insulation deterioration, chafing, or arcing. | Within 250 hours TIS after the effective date of this AD. Repetitively thereafter inspect at intervals not to exceed 12 months | Follow M7 Aerospace SA227 Series Service Bulletin No. 227-24-019, revised: November 21, 2008.
(6) For all airplane Models: Clear, repair, and/or replace all electrical wires and components, hydraulic tube assemblies, and bleed air tube assemblies, in the inspection area and feed-through locations that show any sign of insulation deterioration, chafing, or arcing, as required. | Before further flight after any inspection required in paragraphs (e)(1), (e)(3), (e)(4), and (e)(5) of this AD where any evidence of insulation deterioration, chafing, or arcing was found | Use the service information from paragraphs (e)(1), (e)(3), (e)(4), and (e)(5) of this AD, as applicable.

Note: Although not a requirement of this AD, you may incorporate Swearingen Aviation Corporation SA226 Series Service Bulletin No. 57-010, revised: December 5, 1975, on those airplanes that have not installed the access panel. Installation of the access panel will simplify the incorporation of the service bulletins referenced in this AD and future inspections of the areas of concern.

Alternative Methods of Compliance (AMOCs)

(f) The Manager, Fort Worth Airplane Certification Office, FAA, has the authority to approve AMOCs for this AD, if requested using the procedures found in 14 CFR 39.19. Send information to ATTN: Werner Koch, Aerospace Engineer, ASW-150, Fort Worth Airplane Certification Office, 2601 Meacham Blvd., Fort Worth, Texas 76137; telephone: (817) 222-5133; fax: (817) 222-5960. Before using any approved AMOC on any airplane to which the AMOC applies, notify your appropriate principal inspector (PI) in the FAA Flight Standards District Office (FSDO), or lacking a PI, your local FSDO.

Related Information

(g) To get copies of the service information referenced in this AD, contact M7 Aerospace Repair Station, 10823 NE Entrance Road, San Antonio, Texas 78216; telephone: (210) 824-9421; fax: (210) 804-7766; Internet: http://www.m7aerospace.com. To view the AD docket, go to U.S. Department of Transportation, Docket Operations, M-30, West Building Ground Floor, Room W12-140, 1200 New Jersey Avenue, SE., Washington, DC 20590, or on the Internet at http://www.regulations.gov.

Issued in Kansas City, Missouri, on February 6, 2009.
Kim Smith,
Manager, Small Airplane Directorate, Aircraft Certification Service.

[FR Doc. E9-3012 Filed 2-11-09; 8:45 am]

BILLING CODE 4910-13-P